DEPARTMENT OF TRANSPORTATION

Federal Highway Administration

[Docket No. FHWA-2017-0053]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by February 26, 2018.

ADDRESSES: You may submit comments identified by DOT Docket ID FHWA 2017-0053 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: James March, 202-366-9237, or William Linde, 202-366-9637, Office of Transportation Policy Studies, Federal Highway Administration, Department of Transportation, 1200 New Jersey Avenue SE, Washington, DC 20590. Office hours are from 8 a.m. to 5 p.m., Monday through Friday, except Federal holidays.

SUPPLEMENTARY INFORMATION:

Title: Using Behavioral Economics to Better Understand Managed Lane Use.

Background: The Exploratory Advanced Research (EAR) Program is administered by the Federal Highway Administration (FHWA) and intends to spur innovation by focusing on higher risk research. A research project awarded under the EAR program will use experiments with behavioral economics (BE) to improve models used to predict travelers' use of priced managed lanes (MLs). The research will recruit participants who currently travel on freeways with MLs. Based on prior research, travelers either make a pre-determined decision or consciously choose between taking and not taking the ML trip. Selected research participants will undergo laboratory-based BE tests to examine the personal decision-making process used to select or not select the ML trip. The laboratory-based tests will incorporate an initial survey of participants and the use of a driving simulator. The tests will also examine whether behavior can charge given stimuli. Follow-up field trials will attempt to generalize the results from the BE simulator experiments for use in real-world settings. The field trials will investigate the impact of how the communication of travel information will influence travelers' lane choice. The results from the research will potentially form a new model for estimating travelers' lane choice behavior, if findings show a deviation of practice from traditional estimates of ML use.

Respondents: Approximately 24,000 respondents will be engaged at the beginning of the project. The later tasks will require 240 respondents, with half from the Washington, DC metropolitan region and the other half from the Dallas/Fort Worth, TX metropolitan region. Approximately 400 student respondents will be surveyed to help refine the survey instrument.

Frequency: Approximately 24,000 potential participants will complete a short survey at to gauge interest for later research activities. Approximately 400 students will complete at least one survey collection and one in-person computer-based test. The 240-person respondent pool will complete at least one survey collection and one in-person computer-based test. An approximate subset of 40 participants from the 240-person respondent pool will participate in a second simulator test to help pre-test the methodology for the latter field trials. An approximate subset of 120 participants from the 240-person respondent pool will participate in the field test.

Estimated Average Burden per Response: The 24,000-person respondent pool will need 5 minutes to compete the initial survey. The 400-person student group will need 3 hours to complete the survey and in-person computer-based test. The 240-person respondent pool will need 3 hours to complete the survey and in-person computer-based test. The 40-person subset from the from the 240-person respondent pool will need 2 hours to complete a driving simulator study. The 120-person subset from the from the 240-person respondent pool will need 45 minutes to partake in the field test.

Estimated Total Annual Burden Hours: Approximately 2,000 hours to complete the initial 5-minute survey. Approximately 2,790 hours to complete all the other later activities.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: December 21, 2017.
Michael Howell,
Information Collection Officer.

[FR Doc. 2017-28034 Filed 12-27-17; 8:45 am]

BILLING CODE 4910-22-P